FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than August 13, 2013.

A. Federal Reserve Bank of Atlanta (Chapelle Davis, Assistant Vice President) 1000 Peachtree Street, NE., Atlanta, Georgia 30309:

1. P. Bruce Culpepper, Tallahassee, Florida; Richard R. Dostie, Jacksonville, Florida; Charles E. Hughes, Jr., Jacksonville, Florida; J. Malcolm Jones, Jr., Jacksonville, Florida; James T. Katsur, Longwood, Florida; W. Andrew Krusen, Jr., Tampa, Florida; Allan S. Martin, Tampa, Florida; Linda C. McGurn, Micanopy, Florida; M. G. Sanchez, Gainesville, Florida; DFGM 2010, LLC, Tampa, Florida; Dominion Capital Group, LLC, Tampa, Florida; Dominion Strategic Resource Partners, Tampa, Florida; Jessie T. Krusen IRA, Tampa, Florida; William Andrew Krusen, Jr. SEP IRA, Tampa, Florida; Krusen Limited Partnership, Ltd., Tampa, Florida; Tejas Partners, Ltd., Tampa, Florida; Trust UWO Isabelle Ball Baker FBO Jessie T. Thompson Krusen, Tampa, Florida; WIT Financial Group, LLC, Tampa, Florida; and WIT Ventures, Ltd., Tampa, Florida; to acquire voting shares of Florida Capital Group, Inc., and thereby indirectly acquire voting shares of Florida Capital Bank, National Association, both in Jacksonville, Florida.

Board of Governors of the Federal Reserve System, July 24, 2013.
Michael J. Lewandowski,
Associate Secretary of the Board.

[FR Doc. 2013-18094 Filed 7-26-13; 8:45 am]

BILLING CODE 6210-01-P